DEPARTMENT OF EDUCATION

Office of Elementary and Secondary Education; Overview Information; Even Start Family Literacy Program Women's Prison Grant; Notice Inviting Applications for a New Award for Fiscal Year (FY) 2008

Catalog of Federal Domestic Assistance (CFDA) Number: 84.313A.

DATES: Applications Available: December 21, 2007.

Deadline for Transmittal of Applications: February 29, 2008.

Deadline for Intergovernmental Review: April 29, 2008.

Full Text of Announcement

I. Funding Opportunity Description

Purpose of Program: The Even Start Family Literacy program Women's Prison grant is designed to help break the cycle of poverty and illiteracy and improve the educational opportunities of low-income families with mothers in prison by integrating early childhood education, adult literacy or adult basic education, and parenting education into a unified, high-quality, family literacy program. This project, which must be located in a prison that houses women and their preschool-age children, will serve women inmates and their children, birth through age seven. (For the purposes of this program, the term “prison” means a correctional institution that houses inmates, most of whom are incarcerated in the institution for at least one year.)

The grant awarded under this competition must be implemented through cooperative activities that: build on high-quality existing community resources to create a new range of services; promote the academic achievement of children and adults; assist children and adults from low-income families in achieving to challenging State content and student achievement standards; and use instructional programs based on scientifically based reading research on the prevention of reading difficulties for children and adults, to the extent such research is available. A description of the required fifteen program elements for which funds must be used is included in section V. Application Review Information, Selection Criteria in this application notice.

Waiver of Proposed Rulemaking: Under the Administrative Procedure Act (5 U.S.C. 553) the Department generally offers interested parties the opportunity to comment on proposed definitions. Section 437(d)(1) of the General Education Provisions Act (GEPA), however, allows the Secretary to exempt from rulemaking requirements, regulations governing the first grant competition under a new or substantially revised program authority. This is the first grant competition for the Even Start Family Literacy program Women's Prison Grant and therefore qualifies for this exemption. In order to ensure the timely award of a grant, the Secretary has decided to forego public comment on the definition of “prison” under section 437(d)(1) of GEPA. This definition will apply to the FY 2008 grant competition only.

Priority: Under this competition we are particularly interested in applications that address the following priority.

Invitational Priority: For FY 2008, this priority is an invitational priority. Under 34 CFR 75.105(c)(1), we do not give an application that meets this invitational priority a competitive or absolute preference over other applications.

This priority is:

Collaboration With Participating Children's Preschools or Elementary Schools

The Secretary is especially interested in applications that structure formal collaborations with the preschools and elementary schools that the children of the inmates participating in the family literacy program attend. The intent of this invitational priority is to ensure that the children of inmates in the program are fully participating in an early childhood education program that is aligned with the overall Even Start Family Literacy program.

Program Authority: 20 U.S.C. 6381a(a)(2).

Applicable Regulations: The Education Department General Administrative Regulations (EDGAR) in 34 CFR parts 74, 75, 77, 79, 80, 81, 82, 84, 85, 86, 97, 98, and 99.

Note: The regulations in 34 CFR part 79 apply to all applicants except federally recognized Indian tribes.

Note: The regulations in 34 CFR part 86 apply to institutions of higher education only.

II. Award Information

Type of Award: Discretionary grant.

Estimated Available Funds: $150,000 per year. Funding after the first year of this grant is contingent on the availability of funds.

Estimated Number of Awards: 1.

Note: The Department is not bound by any estimates in this notice.

Project Period: Up to 36 months.

III. Eligibility Information

1. Eligible Applicants: A prison (other than a Federal prison) that houses women and their preschool-age children, an institution of higher education, a local educational agency, including a charter school that is considered a local educational agency under State law, a hospital, or other public or private organization or entity. (A Federal prison may not apply for these Federal funds. However, another eligible entity may apply for a grant to operate this family literacy program in a Federal prison.)

2. Cost sharing or Matching: Cost sharing requirements for a grant under this program are detailed in section 1234(b) of the Elementary and Secondary Education Act of 1965 (ESEA), as amended by the No Child Left Behind Act of 2001.

3. Other: Eligible participants are female prison inmates who participate in the project with one or more of their eligible children (whether or not the child resides in the prison). To be eligible: (a) The inmate parent must be eligible to participate in adult education and literacy activities under the Adult Education and Family Literacy Act, be within the State's compulsory school attendance age range (in which case a local educational agency must provide or ensure the availability of the basic education component), or be attending secondary school; and (b) the child (or children) must be younger than eight years of age.

Note: Other family members of eligible participants described in this paragraph also may participate in Even Start Family Literacy program activities when appropriate to serve Even Start purposes. In addition, under section 1236(b)(2) of the ESEA, when a member of a family participating in an Even Start Family Literacy program becomes ineligible, the family may continue to participate until all participating members become ineligible. For example, in the case of a participating family in which the mother becomes ineligible due to educational advancement, the family would remain eligible until all participating children reach age eight. In the case of ineligibility due to the child or children reaching the age of eight, the family would remain eligible for two years or until the mother becomes ineligible due to educational advancement, whichever occurs first.

4. Participation by Private School Children and Teachers: An entity that receives an Even Start Family Literacy Program Women's Prison grant is required to provide for the equitable participation of private elementary and secondary school children and their teachers or other educational personnel.

In order to ensure that grant program activities address the needs of these private school children, the applicant must engage in timely and meaningful consultation with appropriate private school officials during the design and development of the program. This consultation must take place before the applicant makes any decision that affects the opportunities of eligible private school children, teachers, and other educational personnel to participate.

Administrative direction and control over grant funds must remain with the grantee. (See section 9501, Participation by Private School Children and Teachers, of the ESEA.)

IV. Application and Submission Information

1. Address to Request Application Package: Amber Sheker, U.S. Department of Education, 400 Maryland Avenue, SW., Room 3C142, Washington, DC 20202-6132. Telephone: (202) 205-0653, or by e-mail: Amber.Sheker@ed.gov or Rebecca Marek, U.S. Department of Education, 400 Maryland Avenue, SW., Room 3C138, Washington, DC 20202-6132. Telephone: (202) 260-0968 or by e-mail: Rebecca.Marek@ed.gov.

If you use a telecommunications device for the deaf (TDD), call the Federal Relay Service (FRS), toll free, at 1-800-877-8339.

You can also obtain an application package via the Internet. To obtain a copy via the Internet, use the following address: http://www.ed.gov/programs/evenstartprison/index.html.

Individuals with disabilities can obtain a copy of the application package in an alternative format (e.g., Braille, large print, audiotape, or computer diskette) by contacting the program contact persons listed in this section.

2. Content and Form of Application Submission: Requirements concerning the content of an application, together with the forms you must submit, are in the application package for this competition.

Page and Appendices Limits: The application narrative is where you, the applicant, address the selection criteria that reviewers use to evaluate your application. You must limit the application narrative to the equivalent of no more than 25 typed pages. You, the applicant, must also provide a budget narrative that reviewers use to evaluate your application. You must limit the budget narrative to the equivalent of no more than 3 typed pages. For all page limits, use the following standards:

• A “page” is 8.5” x 11”, on one side only, with 1” margins at the top, bottom, and both sides.

• Double space (no more than three lines per vertical inch) all text in the application and budget narratives, including titles, headings, footnotes, quotations, references, and captions. Text in tables, charts, graphs, and the Appendices may be single spaced.

• Use a font that is either 12-point or larger or no smaller than 10 pitch (characters per inch). You may use other point fonts for any tables, charts, graphs, and the Appendices, but those tables, charts, graphs and Appendices should be in a font size that is easily readable by the reviewers of your application.

• Use one of the following fonts for the application and budget narratives: Times New Roman, Courier, Courier New, or Arial. An application or budget narrative submitted in any other font (includes Times Roman or Arial Narrow) will not be accepted.

• Any tables, charts, or graphs are included in the overall application narrative and budget narrative page limits. The Appendices are not part of these page limits. Appendices are limited to the following: the curriculum vitae or position descriptions of no more than 5 people (including key contract personnel and consultants).

• Other application materials are limited to the specific materials indicated in the application package, and may not include any video or other non-print materials.

• The page limits do not apply to: the cover sheet; the two-page abstract; the budget forms; and the assurances and certifications (included in Section E of the application package).

Our reviewers will not read any pages of your application that exceed the page limit; or exceed the equivalent of the page limit if you apply other standards. In addition, our reviewers will not read or view any Appendices or enclosures (including non-print materials such as videotapes or CDs) other than those described in this notice and the application package.

3. Submission Dates and Times:

Applications Available: December 21, 2007.

Deadline for Transmittal of Applications: February 29, 2008.

Applications for grants under this competition must be submitted electronically using the Grants.gov Apply site (Grants.gov). For information (including dates and times) about how to submit your application electronically, or in paper format by mail or hand delivery if you qualify for an exception to the electronic submission requirement, please refer to section IV. 6. Other Submission Requirements in this notice.

We do not consider an application that does not comply with the deadline requirements.

Individuals with disabilities who need an accommodation or auxiliary aid in connection with the application process should contact the person listed under FOR FURTHER INFORMATION CONTACT in section VII in this notice. If the Department provides an accommodation or auxiliary aid to an individual with a disability in connection with the application package, the individual's application remains subject to all other requirements and limitations in this notice.

Deadline for Intergovernmental Review: April 29, 2008.

4. Intergovernmental Review: This competition is subject to Executive Order 12372 and the regulations in 34 CFR part 79. Information about Intergovernmental Review of Federal Programs under Executive Order 12372 is in the application package for this competition.

5. Funding Restrictions: Under section 1234(b)(3) of the ESEA, the recipient of an Even Start Family Literacy program Women's Prison grant may not use funds awarded under this competition for the indirect costs of a project. Under 34 CFR 74.23(a)(4) and 80.24(a)(1), a recipient of a grant under this program also may not claim indirect costs as part of the local project share. We reference other regulations outlining additional funding restrictions in the Applicable Regulations section in this notice.

6. Other Submission Requirements: Applications for grants under this competition must be submitted electronically unless you qualify for an exception to this requirement in accordance with the instructions in this section.

a. Electronic Submission of Applications.

Applications for grants under the Even Start Family Literacy Program Women's Prison grant, CFDA Number 84.313A, must be submitted electronically using the Governmentwide Grants.gov Apply site at http://www.Grants.gov. Through this site, you will be able to download a copy of the application package, complete it offline, and then upload and submit your application. You may not e-mail an electronic copy of a grant application to us.

We will reject your application if you submit it in paper format unless, as described elsewhere in this section, you qualify for one of the exceptions to the electronic submission requirement and submit, no later than two weeks before the application deadline date, a written statement to the Department that you qualify for one of these exceptions. Further information regarding calculation of the date that is two weeks before the application deadline date is provided later in this section under Exception to Electronic Submission Requirement.

You may access the electronic grant application for the Even Start Family Literacy Program Women's Prison grant at http://www.Grants.gov. You must search for the downloadable application package for this competition by the CFDA number. Do not include the CFDA number's alpha suffix in your search (e.g., search for 84.313, not 84.313A).

Please note the following:

• When you enter the Grants.gov site, you will find information about submitting an application electronically through the site, as well as the hours of operation.

• Applications received by Grants.gov are date and time stamped. Your application must be fully uploaded and submitted and must be date and time stamped by the Grants.gov system no later than 4:30 p.m., Washington, DC time, on the application deadline date. Except as otherwise noted in this section, we will not consider your application if it is date and time stamped by the Grants.gov system later than 4:30 p.m., Washington, DC time, on the application deadline date. When we retrieve your application from Grants.gov, we will notify you if we are rejecting your application because it was date and time stamped by the Grants.gov system after 4:30 p.m., Washington, DC time, on the application deadline date.

• The amount of time it can take to upload an application will vary depending on a variety of factors, including the size of the application and the speed of your Internet connection. Therefore, we strongly recommend that you do not wait until the application deadline date to begin the submission process through Grants.gov.

• You should review and follow the Education Submission Procedures for submitting an application through Grants.gov that are included in the application package for this competition to ensure that you submit your application in a timely manner to the Grants.gov system. You can also find the Education Submission Procedures pertaining to Grants.gov at http://eGrants.ed.gov/help/GrantsgovSubmissionProcedures.pdf.

• To submit your application via Grants.gov, you must complete all steps in the Grants.gov registration process (see http://www.grants.gov/applicants/get_registered.jsp). These steps include (1) registering your organization, a multi-part process that includes registration with the Central Contractor Registry (CCR); (2) registering yourself as an Authorized Organization Representative (AOR); and (3) getting authorized as an AOR by your organization. Details on these steps are outlined in the Grants.gov 3-Step Registration Guide (see http://www.grants.gov/section910/Grants.govRegistrationBrochure.pdf). You also must provide on your application the same D-U-N-S Number used with this registration. Please note that the registration process may take five or more business days to complete, and you must have completed all registration steps to allow you to submit successfully an application via Grants.gov. In addition, you will need to update your CCR registration on an annual basis. This may take three or more business days to complete.

• You will not receive additional point value because you submit your application in electronic format, nor will we penalize you if you qualify for an exception to the electronic submission requirement, as described elsewhere in this section, and submit your application in paper format.

• You must submit all documents electronically, including all information you typically provide on the following forms: Application for Federal Assistance (SF 424), the Department of Education Supplemental Information for SF 424, Budget Information—Non-Construction Programs (ED 524), and all necessary assurances and certifications. Please note that two of these forms—the SF 424 and the Department of Education Supplemental Information for SF 424—have replaced the ED 424 (Application for Federal Education Assistance).

• You must attach any narrative sections of your application as files in a .DOC (document), .RTF (rich text), or .PDF (Portable Document) format. If you upload a file type other than the three file types specified in this paragraph or submit a password-protected file, we will not review that material.

• Your electronic application must comply with any page-limit requirements described in this notice.

• After you electronically submit your application, you will receive from Grants.gov an automatic notification of receipt that contains a Grants.gov tracking number. (This notification indicates receipt by Grants.gov only, not receipt by the Department.) The Department then will retrieve your application from Grants.gov and send a second notification to you by e-mail. This second notification indicates that the Department has received your application and has assigned your application a PR/Award number (an ED-specified identifying number unique to your application).

• We may request that you provide us original signatures on forms at a later date.

Application Deadline Date Extension in Case of Technical Issues with the Grants.gov System: If you are experiencing problems submitting your application through Grants.gov, please contact the Grants.gov Support Desk, toll free, at 1-800-518-4726. You must obtain a Grants.gov Support Desk Case Number and must keep a record of it.

If you are prevented from electronically submitting your application on the application deadline date because of technical problems with the Grants.gov system, we will grant you an extension until 4:30 p.m., Washington, DC time, the following business day to enable you to transmit your application electronically or by hand delivery. You also may mail your application by following the mailing instructions described elsewhere in this notice.

If you submit an application after 4:30 p.m., Washington, DC time, on the application deadline date, please contact the person listed under FOR FURTHER INFORMATION CONTACT in section VII in this notice and provide an explanation of the technical problem you experienced with Grants.gov, along with the Grants.gov Support Desk Case Number. We will accept your application if we can confirm that a technical problem occurred with the Grants.gov system and that that problem affected your ability to submit your application by 4:30 p.m., Washington, DC time, on the application deadline date. The Department will contact you after a determination is made on whether your application will be accepted.

Note: The extensions to which we refer in this section apply only to the unavailability of, or technical problems with, the Grants.gov system. We will not grant you an extension if you failed to fully register to submit your application to Grants.gov before the application deadline date and time or if the technical problem you experienced is unrelated to the Grants.gov system.

Exception to Electronic Submission Requirement: You qualify for an exception to the electronic submission requirement, and may submit your application in paper format, if you are unable to submit an application through the Grants.gov system because—

• You do not have access to the Internet; or

• You do not have the capacity to upload large documents to the Grants.gov system;

and

• No later than two weeks before the application deadline date (14 calendar days or, if the fourteenth calendar day before the application deadline date falls on a Federal holiday, the next business day following the Federal holiday), you mail or fax a written statement to the Department, explaining which of the two grounds for an exception prevent you from using the Internet to submit your application.

If you mail your written statement to the Department, it must be postmarked no later than two weeks before the application deadline date. If you fax your written statement to the Department, we must receive the faxed statement no later than two weeks before the application deadline date.

Address and mail or fax your statement to: Rebecca Marek, U.S. Department of Education, 400 Maryland Avenue, SW., Room 3C138, Washington, DC 20202. Fax: (202) 260-7764.

Your paper application must be submitted in accordance with the mail or hand delivery instructions described in this notice.

b. Submission of Paper Applications by Mail.

If you qualify for an exception to the electronic submission requirement, you may mail (through the U.S. Postal Service or a commercial carrier) your application to the Department. You must mail the original and two copies of your application, on or before the application deadline date, to the Department at the applicable following address:

By mail through the U.S. Postal Service: U.S. Department of Education, Application Control Center, Attention: (CFDA Number 84.313A), 400 Maryland Avenue, SW., Washington, DC 20202-4260;

or

By mail through a commercial carrier: U.S. Department of Education, Application Control Center, Stop 4260, Attention: (CFDA Number 84.313A), 7100 Old Landover Road, Landover, MD 20785-1506.

Regardless of which address you use, you must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

If your application is postmarked after the application deadline date, we will not consider your application.

Note: The U.S. Postal Service does not uniformly provide a dated postmark. Before relying on this method, you should check with your local post office.

c. Submission of Paper Applications by Hand Delivery.

If you qualify for an exception to the electronic submission requirement, you (or a courier service) may deliver your paper application to the Department by hand. You must deliver the original and two copies of your application by hand, on or before the application deadline date, to the Department at the following address:

U.S. Department of Education, Application Control Center, Attention: (CFDA Number 84.313A), 550 12th Street, SW., Room 7041, Potomac Center Plaza, Washington, DC 20202-4260.

The Application Control Center accepts hand deliveries daily between 8 a.m. and 4:30 p.m., Washington, DC time, except Saturdays, Sundays, and Federal holidays.

Note for Mail or Hand Delivery of Paper Applications: If you mail or hand deliver your application to the Department—

(1) You must indicate on the envelope and—if not provided by the Department—in Item 11 of the SF 424 the CFDA number, including suffix letter, if any, of the competition under which you are submitting your application; and

(2) The Application Control Center will mail to you a notification of receipt of your grant application. If you do not receive this notification within 15 business days from the application deadline date, you should call the U.S. Department of Education Application Control Center at (202) 245-6288.

V. Application Review Information

Selection Criteria: The selection criteria for this competition are from sections 1231, 1232(a)(2), and 1235 of the ESEA and 34 CFR 75.210 and are listed in this section. Further information about the selection criteria is in the application package. The maximum score for each criterion is indicated after the title of the criterion. The maximum score for this application is 100 points.

(a) Meeting the purposes of the authorizing statute (0-20 points). The Secretary evaluates each application to determine the extent to which the project will meet the purpose of the Even Start Family Literacy program Women's Prison grant. Under sections 1231 and 1232(a)(2) of the ESEA, the purpose of this grant is to help break the cycle of poverty and illiteracy and improve the educational opportunities of low-income families with mothers in prison by integrating early childhood education, adult literacy or adult basic education, and parenting education into a unified, high-quality, family literacy program. Even Start projects must be implemented through cooperative activities that build on high-quality existing community resources in order to create a new range of services, promote the academic achievement of children and adults, assist children and adults from low-income families in achieving to challenging State content and student achievement standards, and use instructional programs based on scientifically based reading research on the prevention of reading difficulties for children and adults, to the extent such research is available. (Sections 1231 and 1232(a) of ESEA)

(b) Need for project (0-10 points). The Secretary considers the need for the proposed project. In determining the need for the proposed project, the Secretary considers the following factors:

(1) The magnitude of the need for the services to be provided or the activities to be carried out by the proposed project. (34 CFR 75.210(a)(2)(ii))

(2) The extent to which specific gaps or weaknesses in services, infrastructure, or opportunities have been identified and will be addressed by the proposed project, including the nature and magnitude of those gaps or weaknesses. (34 CFR 75.210(a)(2)(v))

(c) Quality of the project design (0-25 points). The Secretary considers the quality of the design of the proposed project. In determining the quality of the design of the proposed project, the Secretary considers the following factors:

(1) The extent to which the design of the proposed project is appropriate to, and will successfully address, the needs of the target population or other identified needs. (34 CFR 75.210(c)(2)(ii))

(2) The extent to which the proposed project will establish linkages with other appropriate agencies and organizations providing services to the target population. (34 CFR 75.210(c)(2)(xvii))

(3) The extent to which the design of the project incorporates the following required program elements:

• Identification and recruitment of eligible families most in need of services provided under the Even Start Family Literacy Program, as indicated by a low level of income, a low level of adult literacy or English language proficiency of the eligible parent or parents, and other need-related indicators.

• Screening and preparation of parents, including teenage parents, and children to enable those parents and children to participate fully in the Even Start activities and services provided by the project, including testing, referral to necessary counseling, other necessary developmental and support services, and related services.

• A design that accommodates the participants' work schedules and other responsibilities, including the provision of support services, when those support services are unavailable from other sources, necessary for participation in the Even Start activities provided by the project, such as—

• Scheduling and locating of services to allow joint participation by parents and children;

• Child care for the period that parents are involved in the Even Start program activities; and

• Transportation to enable parents and their children to participate in the Even Start program.

• High-quality, intensive instructional programs that promote adult literacy and empower the parents to support the educational growth of their children, developmentally appropriate early childhood educational services, and preparation of children for success in regular school programs.

• For staff whose salaries are paid in whole or in part with Federal Even Start funds: all staff hired to provide academic instruction have obtained an associate's, bachelor's, or graduate degree in a field related to early childhood education, elementary school or secondary school education, or adult education, and, if applicable, meet qualifications established by the State for early childhood education, elementary school or secondary school education, or adult education provided as part of an Even Start program or another family literacy program; the individual responsible for administration of Even Start family literacy services has received training in the operation of a family literacy program; and paraprofessionals who provide support for academic instruction have a secondary school diploma or its recognized equivalent.

• Special training of staff, including child care staff, to develop the skills necessary to work with parents and young children in the full range of Even Start instructional services offered through the Even Start Family Literacy program.

• Provision and monitoring of integrated instructional services to participating parents and children through home-based programs.

• Operation on a year-round basis, including the provision of some program services, including instructional and enrichment services, during the summer months;

• Coordination with other programs assisted under the ESEA, any relevant programs under the Adult Education and Family Literacy Act, the Individuals with Disabilities Education Act, and Title I of the Workforce Investment Act of 1998; and the Head Start program, volunteer literacy programs, and other relevant programs.

• Use of instructional programs based on scientifically based reading research for children and adults, to the extent that research is available.

• Encouraging participating families to attend regularly and to remain in the program a sufficient time to meet their program goals.

• Including reading-readiness activities for preschool children based on scientifically based reading research, to the extent available, to ensure that children enter school ready to learn to read.

• If applicable, promoting the continuity of family literacy to ensure that individuals retain and improve their educational outcomes.

• Ensuring that the program will serve those eligible families most in need of the Even Start activities and services provided by the project.

• Providing for an independent evaluation of the program to be used for program improvement. (Section 1235 of ESEA)

(d) Quality of project services (0-20 points). The Secretary considers the quality of the services to be provided by the proposed project. In determining the quality of the services to be provided by the proposed project, the Secretary considers the quality and sufficiency of strategies for ensuring equal access and treatment for eligible project participants who are members of groups that have traditionally been underrepresented based on race, color, national origin, gender, age, or disability. (34 CFR 75.210(d)(2)) In addition, the Secretary considers the following factors:

(1) The extent to which the services to be provided by the proposed project reflect up-to-date knowledge from research and effective practice. (34 CFR 75.210(d)(3)(iii))

(2) The likelihood that the services to be provided by the proposed project will lead to improvements in the achievement of students as measured against rigorous academic standards. (34 CFR 75.210(d)(3)(vii))

(e) Quality of project personnel (0-5 points). The Secretary considers the quality of the personnel who will carry out the proposed project. In determining the quality of project personnel, the Secretary considers the extent to which the applicant encourages applications for employment from persons who are members of groups that have traditionally been underrepresented based on race, color, national origin, gender, age, or disability. (34 CFR 75.210(e)(2)) In addition, the Secretary considers the following factors:

(1) The qualifications, including relevant training and experience, of the project director or principal investigator. (34 CFR 75.210(e)(3)(i))

(2) The qualifications, including relevant training and experience, of key project personnel. (34 CFR 75.210(e)(3)(ii))

(3) The qualifications, including relevant training and experience, of project consultants or subcontractors. (34 CFR 75.210(e)(3)(iii))

(f) Quality of the management plan (0-10 points).

The Secretary considers the quality of the management plan for the proposed project. In determining the quality of the management plan for the proposed project, the Secretary considers the following factors:

(1) The adequacy of the management plan to achieve the objectives of the proposed project on time and within budget, including clearly defined responsibilities, timelines, and milestones for accomplishing project tasks. (34 CFR 75.210(g)(2)(i))

(2) The adequacy of procedures for ensuring feedback and continuous improvement in the operation of the proposed project. (34 CFR 75.210(g)(2)(ii))

(g) Quality of the project evaluation (0-10 points). The Secretary considers the quality of the evaluation to be conducted of the proposed project. In determining the quality of the evaluation, the Secretary considers the following factors:

(1) The extent to which the methods of evaluation are thorough, feasible, and appropriate to the goals, objectives, and outcomes of the proposed project. (34 CFR 75.210(h)(2)(i))

(2) The extent to which the methods of evaluation will provide performance feedback and permit periodic assessment of progress toward achieving intended outcomes. (34 CFR 75.210(h)(2)(vi))

VI. Award Administration Information

1. Award Notices: If your application is successful, we notify your U.S. Representative and U.S. Senators and send you a Grant Award Notice (GAN). We may notify you informally, also.

If your application is not evaluated or not selected for funding, we notify you.

2. Administrative and National Policy Requirements: We identify administrative and national policy requirements in the application package and reference these and other requirements in the Applicable Regulations section in this notice.

We reference the regulations outlining the terms and conditions of an award in the Applicable Regulations section in this notice and include these and other specific conditions in the GAN. The GAN also incorporates your approved application as part of your binding commitments under the grant.

3. Reporting: At the end of your project period, you must submit a final performance report, including financial information, as directed by the Secretary. If you receive a multi-year award, you must submit an annual performance report that provides the most current performance and financial expenditure information as directed by the Secretary under 34 CFR 75.118. The Secretary may also require more frequent performance reports under 34 CFR 75.720(c). For specific requirements on reporting, please go to: http://www.ed.gov/fund/grant/apply/appforms/appforms.html.

4. Performance Measures: Under the Government Performance and Results Act of 1993 (GPRA), the Secretary has established the following six (6) measures for evaluating the overall effectiveness of the Even Start Family Literacy program, including the Women's Prison grant:

(1) The percentage of Even Start adults who achieve significant learning gains on measures of reading/English language acquisition, as measured by the Comprehensive Adult Student Assessment System (CASAS) and the Tests of Adult Basic Education (TABE);

(2) The percentage of Even Start adults with a high school completion goal who earn a high school diploma;

(3) The percentage of Even Start adults with a goal of General Equivalency Diploma (GED) attainment who earn a GED;

(4) The percentage of preschool-aged children participating in Even Start programs who achieve significant gains in oral language skills as measured by the Peabody Picture Vocabulary Test-III, Receptive (PPVT-III, Receptive).

(5) The average number of letters Even Start preschool-aged children are able to identify as measured by the PALS Pre-K Upper Case Alphabet Knowledge subtask; and

(6) The percentage of preschool-aged children participating in Even Start Programs who demonstrate age-appropriate oral language skills as measured by the Peabody Picture Vocabulary Test-III, Receptive (PPVT-III, Receptive).

All grantees must provide information on these performance measures in the annual performance report referred to in section VI. 3. in this notice.

VII. Agency Contacts

FOR FURTHER INFORMATION CONTACT: Amber Sheker, U.S. Department of Education, 400 Maryland Avenue, SW., Room 3C142, Washington, DC 20202. Telephone: (202) 205-0653 or by e-mail: Amber.Sheker@ed.gov or Rebecca Marek, U.S. Department of Education, 400 Maryland Avenue, SW., Room 3C138, Washington, DC 20202. Telephone: (202) 260-0968 or by e-mail: Rebecca.Marek@ed.gov.

If you use a TDD, call the FRS, toll free, at 1-800-877-8339.

VIII. Other Information

Alternative Format: Individuals with disabilities can obtain this document and a copy of the application package in an alternative format (e.g., Braille, large print, audiotape, or computer diskette) on request to the program contact persons listed under FOR FURTHER INFORMATION CONTACT in section VII in this notice.

Electronic Access to This Document: You can view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: December 18, 2007.
Kerri L. Briggs,
Assistant Secretary for Elementary and Secondary Education.

[FR Doc. E7-24865 Filed 12-20-07; 8:45 am]

BILLING CODE 4000-01-P